NATIONAL SCIENCE FOUNDATION

Interagency Arctic Research Policy Committee; Meeting

The National Science Foundation announces the following meeting:

Name: Arctic Research Policy Committee (IARPC).

Date and Time: Wednesday, March 8, 2000, 2:00-4:00 pm.

Place: National Science Foundation, Room 375, 4201 Wilson Blvd., Arlington, VA.

Type of Meeting: Closed. The meeting is closed to the public because future fiscal year budget and policy issues will be discussed.

Contact Person: Charles E. Myers, Office of Polar Programs, Room 755, National Science Foundation, Arlington, VA 22230, Telephone: (703) 306-1029.

Purpose of Committee: The Interagency Arctic Research Policy Committee was established by Public Law 98-373, the Arctic Research and Policy Act, to help set priorities for future arctic research, assist in the development of a national arctic research policy, prepare a multi-agency budget and plan for arctic research, and simplify coordination of arctic research.

Proposed Meeting Agenda Items:

1. U.S. Arctic Policy Review.

2. Goals and Opportunities Report of the Arctic Research Commission.

3. IARPC Program Initiatives—Global Change Research, Arctic Environmental Change.

4. Implementation of Program Initiatives in FY 2001-2005.

Charles E. Myers,
Head, Interagency Arctic Staff, Office of Polar Programs.

[FR Doc. 00-3372 Filed 2-11-00; 8:45 am]

BILLING CODE 7555-01-M